DEPARTMENT OF THE INTERIOR

National Park Service

National Register of Historic Places; Notification of Pending Nominations and Related Actions

Nominations for the following properties being considered for listing or related actions in the National Register were received by the National Park Service before November 28, 2009. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington, DC 20005; or by fax, 202-371-6447. Written or faxed comments should be submitted by December 30, se2009.

J. Paul Loether,
Chief, National Register of Historic Places/National Historic Landmarks Program.

CALIFORNIA

Humboldt County

Eureka Theatre, 612 F. St., Eureka, 09001199.

Madera County

Westlake Theatre, 634-642 S. Alvarado St., Los Angeles, 09001200.

San Francisco County

Doolan, Richard P., Residence and Storefronts, 557 Ashbury St./1500-1512 Haights St., San Francisco, 09001201.

GEORGIA

Cobb County

Lake Acworth Beach and Bathhouse, Lakeshore Dr., Acworth, 09001202.

IOWA

Lee County

Lee, Captain Daniel S. and Fannie L. (Brooks), House, 803 1st St. E., Independence, 09001203.

KANSAS

Gray County

Barton, Welborn ‘Doc’, House, 202 S. Edwards St., Ingalls, 09001204.

Sedgwick County

Blaser, Reank E., House, (Residential Resources of Wichita, Sedgwick County, Kansas 1870-1957) 136 N. Crestway Ave., Wichita, 09001205.

Guldner House, (Residential Resources of Wichita, Sedgwick County, Kansas 1870-1957) 1919 W. Douglas, Wichita, 09001206.

Trego County

Collyer Downtown Historic District, Area along Ainslie Ave., roughly bounded by 2nd St. on the N. and 4th St. on the S., Collyer, 09001207.

MISSOURI

Adair County

Masonic Temple, 217 E. Harrison St., Kirksville, 09001208.

NEW YORK

New York County

Fort Washington Presbyterian Church, 21 Wadsworth Ave., New York, 09001209.

NORTH DAKOTA

Grand Forks County

University of North Dakota Historic District, Roughly bounded by the English Coulee, Campus Rd., Memorial Stadium, & 4th and 5th Aves. N., Grand Forks, 09001210.

OREGON

Multnomah County

Ladd Carriage House, 1331 SW. Broadway St., Portland, 09001211.

PENNSYLVANIA

Chester County

Chandler Mill Rd., Kennett Township, Kennett, 09001213.

Cheyney, Squire, Farm, 1255 Cheyney Thornton Rd., Thornbury, 09001214.

Hopewell Farm, 1751 Valley Rd., Valley, 09001215.

Philadelphia County

Pennsylvania State Office Building, 1400 Spring Garden St., Philadelphia, 09001216.

Philadelphia Quartermaster Depot, 2724 S. 20th St., Philadelphia, 09001212.

WASHINGTON

Grant County

Hartline School, (Rural Public Schools of Washington State MPS) 92 Chelan St., Hartline, 09001217.

King County

Naval Air Station (NAS) Seattle, 7400 Sand Point Way NE., Seattle, 09001218.

Whatcom County

Cissna Cottages Historic District, Area roughly bounded by H., Halleck, G., and Girard Sts., Bellingham, 09001219.

WISCONSIN

Green County

Cleveland's Hall and Blacksmith Shop, N7302 County Trunk Hwy X, Brooklyn, 09001220.

Rock County

Robinson, John C. and Mary, Farmstead, 18002 W. Co. Trunk Hwy C, Union, 09001221.

In the interest of preservation the comment period for the following resource has been waived:

VIRGINIA

Henrico County

Curles Neck Farm, 4705 Curles Neck Rd., Henrico, 09001222.

Request for REMOVAL has been made for the following resource:

PENNSYLVANIA

Monroe County

Swiftwater Inn, PA 611, Swiftwater, 76001651.

[FR Doc. E9-29762 Filed 12-14-09; 8:45 am]

BILLING CODE 4310-70-P